NUCLEAR REGULATORY COMMISSION

[NRC-2021-0038]

Safety-Related Steel Structures and Steel-Plate Composite Walls for Other Than Reactor Vessels and Containments

AGENCY: Nuclear Regulatory Commission.

ACTION: Regulatory guide; issuance; correction.

SUMMARY: The U.S. Nuclear Regulatory Commission (NRC) is correcting a notice that was published in the Federal Register (FR) on September 7, 2021, regarding the issuance of Regulatory Guide (RG) 1.243, “Safety-Related Steel Structures and Steel-Plate Composite Walls for other than Reactor Vessels and Containments.” This action is necessary to correct the NRC Docket ID in the notice title and the ADDRESSES section and to correct a date in the Additional Information section.

DATES: The correction takes effect on September 13, 2021.

ADDRESSES: Please refer to Docket ID NRC-2021-0038 when contacting the NRC about the availability of information regarding this document. You may obtain publicly available information related to this document using any of the following methods:

• Federal Rulemaking Website: Go to https://www.regulations.gov and search for Docket ID NRC-2021-0038. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

RG 1.243 and the regulatory analysis may be found in ADAMS under Accession Nos. ML21089A032 and ML20339A559, respectively.

Regulatory guides are not copyrighted, and NRC approval is not required to reproduce them.

FOR FURTHER INFORMATION CONTACT: Edward O'Donnell, telephone: 301-415-3317, email: Edward.ODonnell@nrc.gov and Marcos Rolon Acevedo, telephone: 301-415-2208, email: Marcos.RolonAcevedo@nrc.gov. Both are staff of the Office of Nuclear Regulatory Research at the U.S. Nuclear Regulatory Commission, Washington, DC 20555-0001.

SUPPLEMENTARY INFORMATION: In the FR on September 7, 2021, in FR Doc. 2021-19178, on page 50190, in the notice title after agency name correct “NRC-2020-0038” to read “NRC-2021-0038.” In the ADDRESSES section, first sentence correct NRC Docket ID “NRC-2020-0038” to read “NRC-2021-0038” and in the first bullet of the ADDRESSES section, first sentence, correct “NRC-2020-0038” to read “NRC-2021-0038.” In the Additional Information section, correct “March 29, 2020” to read “March 29, 2021.”

Dated: September 7, 2021.
For the Nuclear Regulatory Commission.
Meraj Rahimi,
Branch Chief, Regulatory Guide and Programs Management Branch, Division of Engineering, Office of Nuclear Regulatory Research.

[FR Doc. 2021-19621 Filed 9-10-21; 8:45 am]

BILLING CODE 7590-01-P